DEPARTMENT OF HEALTH AND HUMAN SERVICES

Centers for Disease Control and Prevention (CDC)

Board of Scientific Counselors (BSC), Coordinating Center for Health Promotion (CCHP): Notice of Charter Amendment

This gives notice under the Federal Advisory Committee Act (Pub. L. 92-463) of October 6, 1972, that the BSC, CCHP, has amended their charter to reflect the change in the name of the board to the BSC, National Center on Birth Defects and Developmental Disabilities (NCBDDD) and National Center for Chronic Disease Prevention and Health Promotion (NCCDPHP).

For information, contact Ester Sumartojo, Ph.D., Designated Federal Officer, BSC, NCBDDD/NCBDDD, Department of Health and Human Services, 1600 Clifton Road, M/S E87, Atlanta, Georgia 30341, telephone (404) 498-3072, or fax (404) 498-3070.

The Director, Management Analysis and Services Office, has been delegated the authority to sign Federal Register notices pertaining to announcements of meetings and other committee management activities, for both the CDC and the Agency for Toxic Substances and Disease Registry.

Dated: July 13, 2010.
Elaine L. Baker,
Director, Management Analysis and Services Office, Centers for Disease Control and Prevention.

[FR Doc. 2010-17758 Filed 7-20-10; 8:45 am]

BILLING CODE 4163-18-P